DEPARTMENT OF HEALTH AND HUMAN SERVICES

Administration for Children and Families

Submission for OMB Review; Comment Request

Title: Child Welfare Demonstration Project Information Collection.

OMB No.: New Collection.

Description: Under section 1130 of the Social Security Act, the Department of Health and Human Services is given authority to approve up to ten States for Child Welfare demonstrations in each of the five fiscal years 1998-2002. These demonstration projects involve the waiver of certain requirements of titles IV-B and IV-E, the sections of the Act that govern foster care, adoption assistance, independent living, child welfare services, promoting safe and stable families, family preservation and support, and related expenses for program administration, training, and automated systems. Child Welfare demonstration projects operating under this waiver authority are required to be consistent with the purposes of existing law, cost-neutral to the Federal government, and independently evaluated. This authority provides an opportunity for States to design and test a wide range of approaches to improve and reform child welfare. Such demonstrations should provide valuable knowledge that will lead to improvements in the delivery, effectiveness and efficiency of services.

The information collection consists of seven components, which are outlined in the Information Memorandum: (1) Application; (2) Initial Design and Implementation Report; (3) Evaluation Plan; (4) Quarterly Reports (Pre-Implementation); (5) Semi-Annual Reports (Post-Implementation); (6) Interim Evaluation Report; and (7) Final Report. The primary purpose of the demonstrations is to produce information on the outcomes for children and their families. These collections lay the information infrastructure to facilitate the dissemination of this information. If data collection is not conducted for the child welfare demonstrations, the Department relinquishes all pertinent information required to test the impact of the intervention employed in the waivers, specifically the effect of allowing the flexible use of IV-E dollars in the delivery of child welfare services. Furthermore, ensuring the safety and welfare of children is of utmost importance to CB, and if data is conducted less frequently than required by the project, interim results that could affect the well-being of children can be overlooked.

Respondents

Annual Burden Estimates
Instrument | Number of respondents | Number of responses per respondent | Average burden hours per response | Total burden hours
Application | 10 | 1 | 120 | 1,200
Initial design | 55 | 1 | 40 | 2,200
Evaluation plan | 55 | 1 | 40 | 2,200
Quarterly report | 55 | 4 | 24 | 1,320
Semi-annual reports | 55 | 1 | 80 | 4,400
Interim evaluation report | 55 | 1 | 120 | 6,600
Final report | 55 | 1 | 160 | 8,800
Estimated total annual burden hours |  |  |  | 26,720

Additional Information: Copies of the proposed collection may be obtained by writing to The Administration for Children and Families, Office of Information Services, 370 L'Enfant Promenade, S.W., Washington, D.C. 20447, Attn: ACF Reports Clearance Officer.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, 725 17th Street, N.W., Washington, D.C. 20503, Attn: Desk Officer for ACF.

Dated: March 30, 2000.
Bob Sargis,
Reports Clearance Officer.

[FR Doc. 00-8482 Filed 4-5-00; 8:45 am]

BILLING CODE 4184-01-M